ENVIRONMENTAL PROTECTION AGENCY

[FRL-8977-6; Docket ID No. EPA-HQ-ORD-2009-0217]

Draft Toxicological Review of Chloroprene: In Support of the Summary Information in the Integrated Risk Information System (IRIS)

AGENCY: Environmental Protection Agency (EPA).

ACTION: Notice of listening session.

SUMMARY: EPA is announcing a listening session to be held on November 23, 2009, during the public comment period for the external review draft document entitled, “Toxicological Review of Choroprene: In Support of Summary Information on the Integrated Risk Information System (IRIS).” The purpose of the listening session is to allow all interested parties to present scientific and technical comments on draft IRIS health assessments to EPA and other interested parties during the public comment period and prior to the external peer review meeting. EPA welcomes the scientific and technical comments that will be provided to the Agency by the listening session participants. The comments will be considered by the Agency as it revises the draft assessment in response to the independent external peer review and public comments. All presentations will become part of the official and public record.

The EPA's draft assessment and peer review charge are available via the Internet on the National Center for Environmental Assessment's (NCEA) home page under the Recent Additions and Publications menus at http://www.epa.gov/ncea.

DATES: The listening session on the draft IRIS health assessment for chloroprene will be held on November 23, 2009, beginning at 9 a.m. and ending at 4 p.m., Eastern Standard Time. If you wish to make a presentation at the listening session, you should register by November 16, 2009, indicate that you wish to make oral comments at the session, and indicate the length of your presentation. At the time of your registration, please indicate if you require audio-visual aid (e.g., lap top and slide projector). In general, each presentation should be no more than 30 minutes. If, however, there are more requests for presentations than the allotted time will allow, then the time limit for each presentation will be adjusted accordingly. A copy of the agenda for the listening session will be available at the meeting. If no speakers have registered by November 16, 2009, the listening session will be cancelled. EPA will notify those registered to attend of the cancellation.

The public comment period for review of this draft assessment was announced previously in the Federal Register (FR) (74 FR 49874) on September 29, 2009. As stated in that FR notice, the public comment period began on September 29, 2009, and ends November 30, 2009. Any technical comments submitted during the public comment period should be in writing and must be received by EPA by November 30, 2009, according to the procedures outlined below. Only those public comments submitted using the procedures identified in the September 29, 2009, FR notice by the November 30, 2009, deadline will be provided to the independent peer-review panel prior to the peer-review meeting. The date and logistics for the peer-review meeting will be announced later in a separate FR notice.

Listening session participants who wish to have their comments available to the external peer reviewers should also submit written comments during the public comment period using the detailed and established procedures included in the aforementioned September 29, 2009, FR notice (74 FR 49874). Comments submitted to the docket prior to the end of the public comment period will be submitted to the external peer reviewers and considered by EPA in the disposition of public comments. Comments received in the docket after the public comment period closes will not be submitted to the external peer reviewers.

ADDRESSES: The listening session on the draft chloroprene assessment will be held at the EPA offices at Two Potomac Yard (North Building), 7th Floor, Room 7100, 2733 South Crystal Drive, Arlington, Virginia 22202. To attend the listening session, please register by November 16, 2009, by contacting Ms. Karie Riley, of Versar, Inc, by e-mail at KRiley@versar.com (subject line: Chloroprene Listening Session), or by phone: (703) 750-3000, ext. 579 or toll free at 1-800-2-VERSAR (1-800-283-7727), ext. 579. Ask for the Chloroprene Listening Session Coordinator, Karie Riley. Please note that to gain entrance to this EPA building to attend the meeting, attendees must have photo identification with them and must register at the guard's desk in the lobby. The guard will retain your photo identification and will provide you with a visitor's badge. At the guard's desk, attendees should give the name Christine Ross and the telephone number, 703-347-8592, to the guard on duty. The guard will contact Ms. Ross who will meet you in the reception area to escort you to the meeting room. Upon your exit from the building please return your visitor's badge and you will receive the photo identification that you provided.

A teleconference line will also be available for registered attendees/speakers. The teleconference number is 866-299-3188 and the access code is 926-378-7897 followed by the pound sign (#). The teleconference line will be activated at 8:45 am, and you will be asked to identify yourself and your affiliation at the beginning of the call.

Information on Services for Individuals with Disabilities: EPA welcomes the attendance of the public at the “Chloroprene Listening Session” and will make every effort to accommodate persons with disabilities. For information on access or services for individuals with disabilities, please contact Christine Ross at 703-347-8592 or ross.christine@epa.gov. To request accommodation of a disability, please contact Ms. Ross, preferably at least 10 days prior to the meeting, to give EPA as much time as possible to process your request.

FOR FURTHER INFORMATION CONTACT: For information on the public listening sessions, please contact Christine Ross, IRIS Staff, National Center for Environmental Assessment, (8601P), U.S. EPA, 1200 Pennsylvania Avenue, NW., Washington, DC 20460; telephone: 703-347-8592; facsimile: 703-347-8689; or e-mail: ross.christine@epa.gov. If you have questions about the draft chloroprene assessment, contact Allen Davis, IRIS Staff, National Center for Environmental Assessment, U.S. EPA, 109 T.W. Alexander Drive, B243-01, Durham, NC 27711; telephone: 919-541-3789; facsimile: 919-541-0245; or e-mail: davis.allen@epa.gov.

SUPPLEMENTARY INFORMATION: IRIS is a database that contains potential adverse human health effects information that may result from chronic (or lifetime) exposure to specific chemical substances found in the environment. The database (available on the Internet at http://www.epa.gov/iris) contains qualitative and quantitative health effects information for more than 540 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with specific exposure information, government and private entities can use IRIS data to help characterize public health risks of chemical substances in a site-specific situation and thereby support risk management decisions designed to protect public health.

Dated: October 27, 2009.
Peter W. Preuss,
Director, National Center for Environmental Assessment.

[FR Doc. E9-26692 Filed 11-4-09; 8:45 am]

BILLING CODE 6560-50-P